DEPARTMENT OF AGRICULTURE

Food and Nutrition Service

Agency Information Collection Activities: Proposed Collection; Comment Request—Supplemental Nutrition Assistance Program Repayment Demand and Program Disqualification

AGENCY: Food and Nutrition Service, Agriculture (USDA).

ACTION: Notice.

SUMMARY: In accordance with the Paperwork Reduction Act of 1995, this notice invites the general public and other public agencies to comment on proposed information collections. This is a revision of currently approved information collection requirements associated with initiating collection actions against households who have received an overissuance in the Supplemental Nutrition Assistance Program (SNAP).

DATES: Written comments must be submitted on or before October 30, 2020.

ADDRESSES: Comments may be sent to: Maribelle Balbes, Chief, State Administration Branch, Food and Nutrition Service, U.S. Department of Agriculture, 1320 Braddock Place Alexandria, VA 22314. Comments may also be submitted via email to SNAPSAB@fns.usda.gov, or through the federal eRulemaking Portal. Go to http://www.regulations.gov, and follow the online instructions for submitting comments electronically. All written comments will be open for public inspection at the office of the Food and Nutrition Service during regular business hours (8:30 a.m. to 5 p.m. Monday through Friday) at 1320 Braddock Place Alexandria, Virginia 22314. All responses to this notice will be summarized and included in the request for Office of Management and Budget approval. All comments will be a matter of public record.

FOR FURTHER INFORMATION CONTACT: Requests for additional information or copies of this information collection should be directed to Evan Sieradzki 703-605-3212.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Repayment Demand and Program Disqualification.

OMB Number: 0584-0492.

Form Number: None.

Expiration Date: March 31, 2021.

Type of Request: Revision of a currently approved collection.

Abstract: Section 13(b) of the Food and Nutrition Act of 2008, as amended (7 U.S.C. 2022(b)), and Supplemental Nutrition Assistance Program (SNAP) regulations at 7 CFR 273.18 require State agencies to initiate collection action against households that have been overissued benefits. To initiate collection action, State agencies must provide an affected household with written notification informing the household of the claim and demanding repayment. This process is automated in most State agencies. Note that for overissuance claims, this information collection only covers the activities associated with initiating collection.

The burden associated with reporting collections and other claims management information on the FNS- 209 form is covered under the Food Program Reporting System OMB number 0584- 0594, expiration date 7/31/2023. The burden associated with referring delinquent claims and receiving collections through the Treasury Offset Program is covered under currently approved OMB number 0584-0446, expiration date 11/30/2022.

SNAP regulations at 7 CFR 273.16(e)(3) require State agencies to investigate any case of suspected fraud and, where applicable, make an Intentional Program Violation (IPV) determination either administratively or judicially. Notifications and activities involved in the IPV process include:

—The State agency providing written notification informing an individual suspected of committing an IPV of an impending administrative disqualification hearing or court action;

—An individual opting to accept the disqualification and waiving the right to an administrative disqualification hearing or court action by signing either a waiver to an administrative disqualification hearing or a disqualification consent agreement in cases of deferred adjudication and returning it to the State agency; and

—Once a determination is made regarding an IPV, the State agency sending notification to the affected individual of the action taken on the administrative disqualification hearing or court decision.

SNAP regulations at 7 CFR 273.16 require State agencies to use disqualified recipient data to ascertain the correct penalty for IPVs, based on prior disqualifications. State agencies determine this by accessing and reviewing records located in the Electronic Disqualified Recipient System (eDRS). eDRS is an automated system developed by FNS that contains records of disqualifications in every State. State agencies are also responsible for updating the system, as required at 7 CFR 237.16, which includes reporting disqualifications in eDRS as they occur and updating eDRS when records are no longer accurate, relevant, or complete.

Summary of Estimated Burden

The burden consists of two major components: The initiation of overissuance collection and actions associated with IPV determinations. The estimated total annual burden for this collection is 135,525.984 hours (93,348.230 SA reporting hours + 21,431.811 SA record keeping hours + 20,745.942 household reporting hours). The net aggregate change to this collection is a decrease of 68,061.307 total burden hours from the currently approved burden of 203,587.291 hours. The estimated total annual responses for this collection is 2,033,844.640 responses (728,248.640 SA reporting total annual response + 641,671.000 SA recordkeeping total annual records + 663,925.000 household reporting total annual responses). The burden hours associated with overissuance collection initiation have decreased due to a decrease in the amount of claims established in fiscal year (FY) 2019. The burden hours associated with IPV activity have decreased slightly as a result of a decreased number of SNAP households that States initiated IPV activity against in FY2019.

Affected Public: State, Local and Tribal government (SA); Individual/Households (I/H).

Respondent Type: SNAP participants.

SA Reporting Burden

States have done these activities for many years. Based on prior experience in how long these activities take, USDA estimates it will take the 53 State SNAP Agencies 8 minutes (0.1336 hours) to issue the types of letters and notices described below. The following is a summary total of the activities described below.

Estimated Number of Respondents: 53.

Estimate Total Number of Responses per Respondent: 13,818.261.

Estimated Total Annual Responses: 728,248.640.

Estimated Time per Response: 0.12818.

Estimated Total Annual Reporting Burden: 93,348.230.

Demand Letter for Overissuance CFR 273.18 (a)(2)

Based on many years of doing these activities, FNS estimates it will take the 53 State SNAP Agencies 8 minutes (0.1336 hours) to issue a Demand Letter, and that they will issue 10,562 letters each, for a total of 74,787.276 hours. The prior approval included 118,171.338 hours. The new burden estimate is 43,384.062 hours less than the previously approved burden amount due to program adjustments.

(53 States * 10,562 letters each * 8 minutes (0.1336 hours) = 74,787.276 hours).

Prior approval 118,171.338 hours—74,787.276 hours = 43,384.062 hours less than the currently approved burden amount).

Notice for Hearing or Prosecution 7 CFR 273.16(e)(3)

FNS estimates that 53 State agencies will issue 807.34 Notices for Hearing or Prosecution for a total of 42,789.00 responses. FNS estimates it will take approximately 8 minutes (0.1336 hours) to issue a Notice for Hearing or Prosecution for an estimated 5,716.61 total hours. The previously approved burden was 5,374.728 hours. This represents an addition of 341.882 additional hours associated with this burden due to program adjustment.

(53 States * 807.34 responses * 8 minutes (0.1336 hours) = 5,716.610 hours). Prior approval 5,374.728 hours—5,716.61 hours = 341.882 hours more than previously approved burden.

Action Taken on Hearing or Court Decision: For IPV Findings 7 CFR 273.16(e)(9)

FNS estimates that 53 State agencies will take action on 815.40 Intentional Program Violation findings for a total of 39,097.00 responses. FNS estimates that it will take approximately 10 minutes (0.167 hours) for a State to take action on a court decision for Intentional Program Violation findings for a total of 6,529.199 annual burden hours. This represents a change of 1,223.289 fewer hours from the previous approved burden of 7,752.488 hours due to program adjustments.

(53 State agencies * 815.4 responses * 10 minutes (0.167 hours) = 6,529.199 hours). Prior approval 7,752.488 hours—6,529.199 hours = 1,223.289 hours less than previously approved burden.

Action Taken on Hearing or Court Decision: For No IPV Findings 7 CFR 273.16(e)(9)

FNS estimates that 53 State agencies will take action on 69.66 instances of no Intentional Program Violations as a result of a hearing or court decision for a total of 3,692.00 total responses. FNS estimates that it will take approximately 5 minutes (0.0835 hours) for a State to take action on a hearing or court decision for no Intentional Program Violation findings for a total of 308.282 annual burden hours. This represents a change of 179.609 additional burden hours from the previously approved burden of 128.674 hours due to program adjustments.

(53 State agencies * 69.66 responses * 5 minutes (0.0835 hours) = 308.282 hours). Prior approval 128.678 hours—308.282 hours = 179.609 additional burden hours than previously reported.

Electronic Disqualified Recipient System Breakout: For eDRS Reporting 7 CFR 273.16(i)(2)(i)

FNS estimates that 53 State agencies will generate reporting from their eDRS system 737.68 times for a total of 39,097.00 annual responses. FNS estimates that it will take approximately 5 minutes (0.0835 hours) for a State to generate reporting from eDRS for a total of 3,264.60 burden hours. This represents a change of 1,533.394 fewer burden hours from the previously approved burden of 4,797.994 hours due to program adjustments.

(53 State agencies * 737.68 responses * 5 minutes (0.0835 hours) = 3,264.600 hours). Prior approval of 4,797.994 hours—3,264.600 hours = 1,533.394 fewer burden hours than previously reported.

Electronic Disqualified Recipient System Breakout: For Editing and Resubmission 7 CFR 272.1(f)(3)

FNS estimates that 53 State agencies will edit and resubmit reporting to eDRS system 88.52 times for a total of 4,691.64 annual responses. FNS estimates that it will take approximately 10 minutes (0.167 hours) for a State to edit and resubmit reporting to eDRS for a total of 783.504 burden hours. This represents a change of 365.739 fewer burden hours from the previously approved 1,149.243 hours due to program adjustments.

(53 State agencies * 88.52 responses * 10 minutes (0.167 hours) = 783.504 hours). Prior approval of 1,149.243 hours—783.504 = 365.739 fewer burden hours than previously reported.

Electronic Disqualified Recipient System Breakout: For Penalty Checks using Mainframe 7 CFR 273.16(i)(4)

FNS estimates that 53 State agencies will use eDRS for penalty checks using the mainframe 737.68 times for a total of 39,097.00 annual responses. FNS estimates that it will take approximately 3 minutes (0.0501 hours) for a State to run a penalty check using the mainframe for a total of 1,958.760 burden hours. This represents a change of 20.661 additional burden hours from the previously approved 1,938.099 hours due to program adjustments.

(53 State agencies * 737.68 responses * 3 minutes (0.0501 hours) = 1,958.760 hours). Prior approval of 1,938.099 hours—1,958.76 hours = 20.661 additional annual burden hours than previously reported.

SA Recordkeeping Burden

Estimated Number of Recordkeepers: 53.

Estimated Total Records per Recordkeeper: 12,107.

Estimated Total Annual Records: 641,671.

Estimated Average # of Hours per Response: 0.0334.

Estimated Total Recordkeeping Hours: 21,431.811

Initiation of Overissuance Collection CFR 272.1(f)

Based on many years of performing these activities, FNS estimates that 53 State agencies will perform recordkeeping for initiating a collection action approximately 10,561.98 times for a total of 559,785.00 annual records. FNS estimates that it will take approximately 2 minutes (0.0334 hours) for a State agency to perform recordkeeping for initiation of a collection action for a total of 18,696.819 burden hours. This represents a change of 10,846.015 fewer burden hours from the previously approved burden of 29,542.834 hours due to program adjustments.

(53 State agencies * 10,561.98 records * 2 minutes (0.0334 hours) = 18,696.819 hours). Prior approval of 29,542.834 hours—18,696.819 hours = 10,846.015 fewer annual burden hours than previously reported.

IPV Determinations CFR 272.1(f)

FNS estimates that 53 State agencies will perform recordkeeping for Intentional program violations (IPVs) 1,545.02 times for a total of 81,886.00 annual records. FNS estimates that it will take approximately 2 minutes (0.0334 hours) for a State agency to update records for IPVs for a total of 2,734.992 annual burden hours. This represents a change of 162.257 fewer annual burden hours from the previously approved burden of 2,897.25 hours due to program adjustments.

(53 State agencies *1,545.02 records * 2 minutes (0.0334 hours) = 2,734.992 hours). Prior approval of 2,897.25 hours—2,734.992 = 162.257 fewer annual burden hours than previously reported.

I/H Reporting Burden

Estimated Number of Respondents: 559,785.

Estimated Number of Responses per Respondent: 1.18604.

Total Number of Annual Responses: 663,925.00.

Estimated Time per Response: 0.03125

Estimated Total Annual Reporting Burden: 20,745.942.

Initiation of Overissuance Collection 7 CFR 273.18(a)(2)

Based on many years of reporting these activities, FNS estimates approximately 559,785 respondents will respond 1 time for a demand letter for overissuance for a total of 559,785 annual responses. FNS estimates that it will take approximately 2 minutes (0.0334 hours) for a respondent to respond to a demand letter for a total estimate of 18,696.819 annual burden hours. This represents a change of 10,846.015 fewer annual burden hours due to a program adjustment from the previously approved burden of 29,542.834 hours.

(559,785 respondents * 1 response per respondent * 2 minutes (0.0334 hours) = 18,696.819 hours). Prior approval of 29,542.834 -18,696.819 = 10,846.015 fewer annual burden hours than previously reported for individuals/households.

Notice for Hearing or Prosecution 7 CFR 273.16(e)(3)

FNS estimates approximately 42,789 respondents will respond 1 time for a notice for hearing or prosecution for a total of 42,789 annual responses. FNS estimates that it will take approximately 1 minute (0.0167 hours) for a respondent to read a notice for hearing or prosecution for a total estimate of 714.065 annual burden hours. This represents a change of 14.488 fewer annual burden hours due to a program adjustment from the previously approved burden of 729.065 hours.

(42,789 respondents * 1 response per respondent * 1 minute (0.0167 hours) = 714.576 hours). Prior approval of 729.065—714.576 = 14.488 fewer annual burden hours than previously reported for individuals/households.

Administrative Disqualification Hearing Waiver 7 CFR 273.16(i)(2)

FNS estimates approximately 15,664 respondents will respond 1 time for an administrative disqualification hearing waiver for a total of 15,664 annual responses. FNS estimates that it will take approximately 2 minutes (0.0334 hours) for a respondent to submit an administrative disqualification hearing waiver for a total estimate of 523.178 annual burden hours. This represents a change of 81.763 fewer annual burden hours due to a program adjustment from the previously approved burden of 604.941 hours.

(15,664 respondents * 1 response per respondent * 2 minutes (0.0334 hours) = 523.178 hours). Prior approval of 604.941—523.178 = 81.763 fewer burden hours than previously reported for individuals/households.

Disqualification Consent Agreement 7 CFR 273.16(i)(2)

FNS estimates approximately 2,898 respondents will respond 1 time for a disqualification consent agreement for a total of 2,898 annual responses. FNS estimates that it will take approximately 2 minutes (0.0334 hours) for a respondent to submit a disqualification consent agreement for a total estimate of 96.793 annual burden hours. This represents a change of 131.963 fewer annual burden hours due to a program adjustment from the previously approved burden of 228.757 hours.

(2,898 respondents * 1 response per respondent * 2 minutes (0.0334 hours) = 96.793 hours). Prior approval of 228.757—96.793 = 131.963 fewer burden hours than previously reported for individuals/households.

Action Taken on Hearing or Court Decision: For IPV Findings 273.16(e)(9)

FNS estimates approximately 39,097 respondents will respond 1 time for an action taken on hearing or court decision for IPV findings for a total of 39,097 annual responses. FNS estimates that it will take approximately 1 minute (0.0167 hours) for a respondent to submit an action taken on hearing or court decision for IPV findings for a total estimate of 652.920 annual burden hours. This represents a change of 54.361 fewer annual burden hours due to a program adjustment from the previously approved burden of 707.281 hours.

(39,097 respondents 1 response per respondent * 1 minute (0.0167 hours) = 652.920 hours). Prior approval of 707.281—652.920 = 54.361 fewer burden hours than previously reported for individuals/households.

Action Taken on Hearing or Court Decision: For No IPV Findings

FNS estimates approximately 3,692 respondents will respond 1 time for an action taken on hearing or court decision for no IPV findings for a total of 3,692 annual responses. FNS estimates that it will take approximately 1 minute (0.0167 hours) for a respondent to submit an action taken on a hearing or court decision for no IPV findings for a total estimate of 61.656 annual burden hours. This represents a change of 39.889 additional annual burden hours due to a program adjustment from the previously approved burden of 21.767 hours.

(3,692 respondents * 1 response per respondent * 1 minute (0.0167 hours) = 61.656 hours). Prior approval 21.767—61.656 = 39.889 additional burden hours than previously reported for individuals/households.

Grand Total Burden Reporting and Recordkeeping Burden: 135,525.984 total burden hours and 2,033,844.640 responses.

Title | CFR section of regulations | Estimated number of respondents | Responses per respondent | Total annual responses (Col. DxE) | Estimated average number of hours per response | Estimated total hours (Col. FxG) | Previously approved | Due to program change | Due to an adjustment | Total difference
STATE AGENCY
Reporting Burden
Demand Letter for Overissuance | 273.18(a)(2) | 53 | 10,561.98 | 559,785.00 | 0.1336 | 74,787.276 | 118,171.338 | 0.000 | −43,384.062 | −43,384.062
Notice for Hearing or Prosecution | 273.16(e)(3) | 53 | 807.34 | 42,789.00 | 0.1336 | 5,716.610 | 5,374.728 | 0.000 | 341.882 | 341.882
Action Taken on Hearing or Court Decision: For IPV Findings | 273.16(e)(9) | 53 | 815.40 | 39,097.00 | 0.167 | 6,529.199 | 7,752.488 | 0.000 | −1,223.289 | −1,223.289
Action Taken on Hearing or Court Decision: For No IPV Findings | 273.16(e)(9) | 53 | 69.66 | 3,692.00 | 0.0835 | 308.282 | 128.674 | 0.000 | 179.609 | 179.609
Electronic Disqualified Recipient System Breakout: For eDRS Reporting | 273.16(i)(2)(i) | 53 | 737.68 | 39,097.00 | 0.0835 | 3,264.600 | 4,797.994 | 0.000 | −1,533.394 | −1,533.394
Electronic Disqualified Recipient System Breakout: For Editing and Resubmission | 272.1(f)(3) | 53 | 88.52 | 4,691.64 | 0.167 | 783.504 | 1,149.243 | 0.000 | −365.739 | −365.739
Electronic Disqualified Recipient System Breakout: For Penalty Checks using Mainframe | 273.16(i)(4) | 53 | 737.68 | 39,097.00 | 0.05010 | 1,958.760 | 1,938.099 | 0.000 | 20.661 | 20.661
Total State Agency Reporting Burden |  | 53 | 13,818.261 | 728,248.640 | 0.12818 | 93,348.230 | 139,312.563 | 0.000 | −45,964.332 | −45,964.332

Title |  | Estimated number of recordkeepers | Records per recordkeeper | Annual records | Estimated average number of hours per response | Estimated total annual records | Previously approved | Due to program change | Due to an adjustment | Total difference
Recordkeeping Breakout: For initiating Collection Action | 272.1(f) | 53 | 10,561.98 | 559,785.00 | 0.0334 | 18,696.819 | 29,542.834 | 0.000 | −10,846.015 | −10,846.015
Recordkeeping Breakout: For IPVs | 272.1(f) | 53 | 1,545.02 | 81,886.00 | 0.0334 | 2,734.992 | 2,897.250 | 0.000 | −162.257 | −162.257
Total State Agency Recordkeeping Burden |  | 53 | 12,107.000 | 641,671.000 | 0.0334 | 21,431.811 | 32,440.084 | 0.000 | −11,008.273 | −11,008.273

| CFR section of regulations | Estimated number of respondents | Responses per respondent | Total annual responses | Estimated average number of hours per response | Estimated total hours | Previously approved | Due to program change | Due to an adjustment | Total difference
Total State Agency Burden |  | 53 | 25,847.540 | 1,369,919.640 | 0.0838 | 114,780.042 | 171,752.647 | 0.000 | −56,972.605 | −56,972.605

Title |  | Estimated number of respondents | Responses per respondent | Total annual responses (Col. DxE) | Estimated average number of hours per response | Estimated total hours (Col. FxG) | Previously approved | Due to program change | Due to an adjustment | Total difference
HOUSEHOLD
Reporting Burden
Demand Letter for Overissuance | 273.18(a)(2) | 559,785.00 | 1.00 | 559,785.00 | 0.0334 | 18,696.819 | 29,542.834 | 0.000 | −10,846.015 | −10,846.015
Notice for Hearing or Prosecution | 273.16(e)(3) | 42,789.00 | 1.00 | 42,789.00 | 0.0167 | 714.576 | 729.065 | 0.000 | −14.488 | −14.488
Administrative Disqualification Hearing Waiver | 273.16(i)(2) | 15,664.00 | 1.00 | 15,664.00 | 0.0334 | 523.178 | 604.941 | 0.000 | −81.763 | −81.763
Disqualification Consent Agreement | 273.16(i)(2) | 2,898.00 | 1.00 | 2,898.00 | 0.0334 | 96.793 | 228.757 | 0.000 | −131.963 | −131.963
Action Taken on Hearing or Court Decision: For IPV Findings | 273.16(e)(9) | 39,097.00 | 1.00 | 39,097.00 | 0.0167 | 652.920 | 707.281 | 0.000 | −54.361 | −54.361
Action Taken on Hearing or Court Decision: For No IPV Findings | 273.16(e)(9) | 3,692.00 | 1.00 | 3,692.00 | 0.0167 | 61.656 | 21.767 | 0.000 | 39.889 | 39.889
Total Household Reporting Burden |  | 559,785 | 1.18604 | 663,925.000 | 0.03125 | 20,745.942 | 31,834.644 | 0.000 | −11,088.702 | −11,088.702
SUMMARY OF BURDEN
State Agency Level |  | 53 |  | 1,369,919.640 |  | 114,780.042 | 171,752.647 | 0.000 | −56,972.605 | −56,972.605
Household |  | 559,785 |  | 663,925.000 |  | 20,745.942 | 31,834.644 | 0.000 | −11,088.702 | −11,088.702
Total Burden This Collection |  | 559,838 | 3.63292 | 2,033,844.640 | 0.06664 | 135,525.984 | 203,587.291 | 0.000 | −68,061.307 | −68,061.307

Pamilyn Miller,
Administrator, Food and Nutrition Service.

[FR Doc. 2020-18850 Filed 8-28-20; 8:45 am]

BILLING CODE 3410-30-P